DEPARTMENT OF TRANSPORTATION

Federal Aviation Administration

[Docket No. FAA-2025-2535]

Agency Information Collection Activities: Requests for Comments; Clearance of a Reinstated Information Collection: Pilot Certification and Qualification Requirements for Air Carrier Operations

AGENCY: Federal Aviation Administration (FAA), DOT.

ACTION: Notice and request for comments.

SUMMARY: In accordance with the Paperwork Reduction Act of 1995, FAA invites public comments about our intention to request Office of Management and Budget (OMB) approval to reinstate an information collection that expired in December 2025. The collection involves FAA review of Airline Transport Pilot (ATP) Certification Training Program (CTP) submissions to determine whether the program complies with the applicable requirements. It also involves FAA review of educational institutions' applications for authority to certify its graduates meet the minimum regulatory requirements.

DATES: Written comments should be submitted by April 14, 2026.

ADDRESSES: Please send written comments:

By Electronic Docket: www.regulations.gov (Enter docket number into search field).

By mail: Shannon Salinsky, 8700 Freeport Parkway, Suite 200, Irving, TX 75063.

By fax: 817-821-1915.

FOR FURTHER INFORMATION CONTACT: Christopher Morris by email at: chris.morris@faa.gov.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0755.

Title: Pilot Certification and Qualification Requirements for Air Carrier Operations.

Form Numbers: 8700-1.

Type of Review: Renewal of an information collection.

Background: FAA aviation safety inspectors (ASIs) review the Airline Transport Pilot (ATP) Certification Training Program (CTP) submissions to determine whether the program complies with the applicable requirements of 14 CFR 61.156. The programs that comply with the minimum requirements receive approval to begin offering the course to applicants for an ATP certificate with a multiengine class rating or an ATP certificate obtained concurrently with an airplane type rating. FAA ASIs also review educational institutions' application for authority to certify that graduates meet the minimum requirements of 14 CFR 61.160. The institutions that receive letters of authorization for their degree programs are authorized to place a certifying statement on a graduate's transcript indicating he or she is eligible for a restricted-privileges ATP certificate.

Respondents: 5,523.

Frequency: 1 Time per Year.

Estimated Average Burden per Response: 14 minutes.

Estimated Total Annual Burden: 1,329 Hours.

Issued in Washington, DC, on February 11, 2026.
D.C. Morris,
Aviation Safety Analyst, Flight Standards Service, General Aviation and Commercial Division.

[FR Doc. 2026-02958 Filed 2-12-26; 8:45 am]

BILLING CODE 4910-13-P